DEPARTMENT OF AGRICULTURE

Forest Service

White River National Forest; Colorado; El Jebel Administrative Sites, Upper and Lower Parcels, Conveyance Project—Withdrawal of Notice of Intent To Prepare an Environmental Impact Statement

AGENCY: Forest Service, Agriculture (USDA).

ACTION: Notice; withdrawal.

SUMMARY: The White River National Forest (WRNF) is withdrawing its Notice of Intent (NOI) to prepare an Environmental Impact Statement (EIS) for the El Jebel Administrative Sites, Upper and Lower Parcels, Conveyance Project. The original NOI was published in the Federal Register on December 7, 2016. The WRNF has decided to change the proposed action of the project. With the change in the proposed action the preliminary analysis indicates there will not be effects that rise to a level of significance that would warrant an EIS.

FOR FURTHER INFORMATION CONTACT: Questions concerning this notice should be directed to Jennifer Schuller at jennifer.schuller@usda.gov or by phone at 970-404-3163.

Individuals who use telecommunication devices for the deaf/hard-of-hearing (TDD) may call the Federal Information Relay Service (FRS) at 1-800-877-8339, 24 hours a day, every day of the year, including holidays.

Dated: October 12, 2021.
Barnie Gyant,
Associate Deputy Chief, National Forest System.

[FR Doc. 2021-22574 Filed 10-15-21; 8:45 am]

BILLING CODE 3411-15-P